DEPARTMENT OF TRANSPORTATION

Federal Motor Carrier Safety Administration

49 CFR Chapter III

[Docket No. FMCSA-2007-27748]

Minimum Training Requirements for Entry-Level Drivers of Commercial Motor Vehicles: Negotiated Rulemaking Committee Membership and First Meeting

AGENCY: Federal Motor Carrier Safety Administration (FMCSA), DOT.

ACTION: Notice of advisory committee membership and public meeting.

SUMMARY: FMCSA announces the appointment of members to the Entry-Level Driver Training Advisory Committee (ELDTAC) established to complete a negotiated rulemaking on Entry-Level Driver Training (ELDT) for individuals who want to operate Commercial Motor Vehicles (CMVs). ELDTAC is a negotiated rulemaking committee established to develop a Notice of Proposed Rulemaking (NPRM) to implement section 32304 of the Moving Ahead for Progress in the 21st Century (MAP-21) concerning ELDT standards for individuals applying for a commercial driver's license (CDL) or CDL upgrade. Additionally, the Agency announces that the first meeting of the ELDTAC will be held on February 26 and 27, 2015. The meeting is open to the public for its entirety and there will be a public comment period at the end of each day.

DATES: The meeting will be held Thursday-Friday, February 26-27, 2015, from 9 a.m. to 4:30 p.m., Eastern Daylight Time (E.T.), at the Hyatt Regency Crystal City, 2799 Jefferson Davis Highway, Arlington, VA 22202, (703) 418-1234, in the Tidewater room on the Ballroom level. Copies of all ELDTAC materials and an agenda will be made available in advance of the meeting at http://www.fmcsa.dot.gov/eldtac.

FOR FURTHER INFORMATION CONTACT: Ms. Shannon L. Watson, Senior Policy Advisor, Federal Motor Carrier Safety Administration, U.S. Department of Transportation, 1200 New Jersey Avenue SE., Washington, DC 20590, (202) 366-2551, eldtac@dot.gov.

Services for Individuals with Disabilities:

For information on facilities or services for individuals with disabilities or to request special assistance at the meeting, contact Eran Segev at (617) 494-3174, eran.segev@dot.gov, by Wednesday, February 18.

SUPPLEMENTARY INFORMATION:

I. Background

Entry-Level Driver Training

Section 32304 of the Moving Ahead for Progress in the 21st Century (MAP-21) (Pub. L. 112-141, 126 Stat. 405 (July 6, 2012)) requires FMCSA to establish new regulations concerning ELDT. MAP-21 requires “that the training regulations address knowledge and skills for motor vehicle operation, specific requirements for hazmat and passenger endorsements, create a certificate system for meeting requirements, and require training providers to demonstrate that their training meets uniform standards.” The new requirements would apply to individuals seeking a CDL to operate CMVs, as defined in 49 CFR 383.5.

On August 19, 2014 (79 FR 49044), FMCSA announced that the Agency would explore the feasibility of conducting a negotiated rulemaking concerning entry-level driver training for drivers of CMVs. The Agency announced the hiring of a convener to speak with interested parties about the feasibility of conducting an ELDT negotiated rulemaking and requested public comments by September 18, 2014. As part of the first step in this process, the convener conducted these interviews and submitted a report to the Agency on November 26, 2014, regarding the feasibility of conducting a negotiated rulemaking. The convening report is available both in the rulemaking docket at FMCSA-2007-27748 and on the Internet at eldtac.fmcsa.dot.gov.

On December 10, 2014 (79 FR 73273), FMCSA announced its intent to establish a negotiated rulemaking committee to negotiate and develop proposed regulations to implement the MAP-21 provision concerning ELDT based on the recommendations of the convener.

ELDTAC

The ELDTAC is established by charter in accordance with the Federal Advisory committee Act (FACA), 5 U.S.C., App. 2. Transportation Secretary Anthony Foxx signed the ELDTAC charter on January 15, 2015, which provides up to 2 years for the Committee's duration, in accordance with section 14 of FACA. Additionally, as the ELDTAC is a negotiated rulemaking committee (“Reg Neg”), it complies with the Negotiated Rulemaking Act (5 U.S.C. 564). The Committee is effective from the date of signature through January 15, 2017. The Agency announced in the Federal Register on December 10, 2014 its intention to establish a negotiated rulemaking committee to negotiate and develop proposed regulations on entry-level driver training, as recommended by the neutral convener, Mr. Richard Parker, in his report to FMCSA on the feasibility of such a rulemaking. Mr. Parker, a professor of law at the University of Connecticut School of Law and a contractor for Strategic Consulting Alliances, LLC, will serve as the facilitator for the ELDTAC. The convening report is available in the rulemaking docket at FMCSA-2007-27748 and on the Internet at www.fmcsa.dot.gov/eldtac.

ELDTAC Membership

In its December 10, 2014, Federal Register notice, the Agency announced that it was soliciting applications and nominations for membership on the ELDTAC. These members are experts in their respective fields and appointed as Special Government employees or representatives of entities or interests including but not limited to the following: CMV driver training organizations; industry representatives; representatives of driver training schools; motor carriers (of property and passengers) and associations; State licensing agencies; State enforcement agencies; labor unions; safety advocacy groups; insurance companies; and others selected with a view toward achieving varied perspectives on ELDT. In an effort to balance these interests to the extent practicable, the FMCSA Acting Administrator hereby appoints the following members, who will each serve for up to one two-year term:

• Larry W. Minor, Associate Administrator for Policy, FMCSA

• Peter Kurdock, Director, Regulatory Affairs, Advocates for Highway and Auto Safety

• Kevin Lewis, Director, Driver Programs, American Association of Motor Vehicle Administrators

• Clyde Hart, Vice President, Government Affairs, American Bus Association

• Lauren Samet, Assistant Director, Paraprofessional and School-Related Personnel, American Federation of Teachers, AFL-CIO

• Ed Watt, Director, Special Projects, Amalgamated Transit Union, AFL-CIO

• Boyd Stephenson, Director, Hazardous Materials and Commercial Licensing Policy, American Trucking Associations

• Ron Wood, Washington, DC, Volunteer Coordinator, Citizens for Reliable and Safe Highways

• Bob Tershak, Master Trooper, Virginia State Police, Commercial Vehicle Safety Alliance

• Carl Spatocco, Regional Vice President, Educational Affiliates, Commercial Vehicle Training Association

• David R. Parker, Senior Legal Counsel, Great West Casualty Company

• Al Smith, Director, Safety and Security, Greyhound Lines, Inc.

• LaMont Byrd, Director, Health and Safety, International Brotherhood of Teamsters

• Margaret Rohanna, School Bus Program Manager, Massachusetts Registry of Motor Vehicle Division, Massachusetts Department of Transportation

• Martin Garsee, President, National Association of Publicly Funded Truck Driving Schools

• Jim Edwards, Washington Representative, National Association of Small Trucking Companies

• Charlie Hood, President, National Association of State Directors of Pupil Transportation Services

• Bob Ramsdell, Chief Operating Officer, West, Durham School Services, National School Transportation Association

• Scott Grenerth, Director, Regulatory Affairs, Owner-Operator Independent Drivers Association

• David Money, Chairman, Board of Directors, Professional Truck Drivers Institute

• Louis Spoonhour, Senior Advisor for CDL Programs, Stevens Transport

• Bryan Spoon, Owner-Operator, Spoon Trucking

• David Heller, Director, Safety and Policy, Truckload Carriers Association

• John Lannen, Executive Director, Truck Safety Coalition

• Ken Presley, Vice President, Industry Operations, and Chief Operating Officer, United Motorcoach Association

• Ellen Voie, President and CEO, Women in Trucking

II. Meeting Participation

Oral comments from the public will be heard during the last half-hour of the meetings each day. Should all public comments be exhausted prior to the end of the specified period, the comment period will close.

III. Submitting Written Comments

Members of the public may submit written comments on the topics to be considered during the meeting by Wednesday, February 18, to Federal Docket Management System (FDMC) Docket Number FMCSA-2007-27748. If you submit a comment, please include the docket number for this notice (FMCSA-2007-27748). You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2007-27748, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing.

Viewing Comments and Documents

To view comments, as well as any documents mentioned in this preamble as being available in the docket, go to http://www.regulations.gov. Insert the docket number, FMCSA-2007-27748, in the keyword box, and click “Search.” Next, click the “Open Docket Folder” button and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

IV. Future Committee Meetings and Rulemaking Calendar

Decisions with respect to future meetings will be made at the first meeting and from time to time thereafter. Notices of all future meetings will be published in the Federal Register at least 15 calendar days prior to each meeting. In coordination with the Reg Neg facilitator, FMCSA has developed a provisional schedule of committee meetings, running through May 2015, which the facilitator plans to finalize with the committee during the first meeting.

FMCSA intends to complete the Reg Neg process for the proposed rule within the first half of 2015 and to publish a Notice of Proposed Rulemaking (NPRM) this year, followed by a Final Rule in 2016. After the conclusion of the committee meetings, the Agency will draft the NPRM, which is expected to take approximately 6-8 weeks, depending on the degree of consensus on the issues and the supporting data developed by the committee. The NPRM will then be reviewed by DOT's Office of the Secretary and the Office of Management and Budget (OMB). The Agency will then publish the NPRM for public comment.

Following the close of the public comment period the Agency will evaluate and respond to public comments as it drafts a final rule, which will also undergo Departmental and OMB review. Although the time needed to address public comments to an NPRM that has been developed through a successful negotiated rulemaking process is typically shorter than for rules conducted through the ordinary informal notice and comment process, the Agency must nonetheless address substantive public comments in the final rule, in accordance with the Administrative Procedure Act. While the Agency cannot state with certainty the time required to complete the Reg Neg process and notice and comment rulemaking, the target date for publication of an NPRM is October 15, 2015.

Issued on: February 9, 2015.
T.F. Scott Darling, III,
Acting Administrator.

[FR Doc. 2015-02967 Filed 2-10-15; 8:45 am]

BILLING CODE 4910-EX-P